ENVIRONMENTAL PROTECTION AGENCY

[ER-FRL-8592-1]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated April 6, 2008 (73 FR 19833).

Draft EISs

EIS No. 20080242, ERP No. D-BLM-D65040-WV, East Lynn Lake Coal Lease Project, Proposal to Lease Federal Coal that lies Under Nine Tracts of Land for Mining, Wayne County, WV.

Summary: EPA expressed environmental objections to adverse impacts to water quality and aquatic life. EPA recommends consideration of an alternative that includes a more protective buffer between proposed mining operations and the existing earthen dam including East Lynn Lake. Additionally, the final EIS should include information on degradation from past mining activities, clarify the hydrologic connection between surface and ground water, and geological conditions in the project area. Rating EO2.

EIS No. 20080279, ERP No. D-FRC-D05125-PA, Holtwood Hydroelectric Project (Docket No. P-1881-050) Application for an Amendment License to Increase the Installed Capacity, Susquehanna River, Lancaster and York Counties, PA.

Summary: Although EPA acknowledged the efforts to address fish passage, we expressed environmental concerns about potential impacts to other resources, including wetlands and water quality, and requested that information, regarding wetland delineation, plans for excavation of sediment and bedrock, sediment sampling protocols, and a comparison of impacts of the excavation and blasting plans be included in the FEIS. Rating EC2.

EIS No. 20080393, ERP No. D-NRC-D06006-PA, Generic—License Renewal of Nuclear Plants, Supplement 36 to NUREG-1437, Regarding Beaver Valley Power Station, Units 1 and 2, Plant Specific, Issuing Nuclear Power Plant Operating License for an Additional 20-Year Period, PA.

Summary: EPA does not object to proposed project. Rating LO.

EIS No. 20080404, ERP No. D-BLM-J65526-00, Grand Staircase—Escalante National Monument (GSENM), Draft Monument Management Plan Amendment & Draft Rangeland Health, Implementation, Portions of Kane and Garfield, Utah and Coconino County, AZ.

Summary: EPA expressed environmental concerns about the use of accurate criteria to measure stream riparian health and trends in the grazing allotments, and the need to mitigate impacts to the impaired reaches of the Paria River and the Escalante River. Rating EC2.

EIS No. 20080484, ERP No. D-NOA-L91033-AK, Bering Sea Chinook Salmon Bycatch Management, Establish New Measures to Minimize Chinook Salmon Bycatch, to Amend the Fishery Management Plan, Implementation, Bering Sea Pollock Fishery, AK.

Summary: EPA expressed environmental concerns about monitoring and enforcement of the Bering Sea Chinook Salmon Bycatch program, and requested a discussion of how climate change may impact the proposed action. Rating EC2.

EIS No. 20080503, ERP No. D-NRC-D06007-PA, Generic—License Renewal of Nuclear Plants, Supplement 37 to NUREG-1437, Regarding Three Mile Island Nuclear Station, Unit 1, in Londonterry Township in Dauphin County, PA.

Summary: EPA expressed environmental concerns about air quality impacts associated with the steam generator transport process. Rating EC2.

EIS No. 20080513, ERP No. D-AFS-L65562-AK, Central Kupreanof Timber Harvest Project, Proposes to Harvest up to 70.2 Million Board Feet of Timber, Kupreanof Island, Petersburg Ranger District, Tongass National Forest, AK.

Summary: EPA expressed environmental concerns about potential adverse impacts to essential fish habitat and water quality from increased harvest activities. Rating EC2.

EIS No. 20080521, ERP No. D-NPS-J65528-ND, Theodore Roosevelt National Park, Elk Management Plan, Implementation, Billing and McKenzie Counties, ND.

Summary: EPA does not object to the proposed project. Rating LO.

EIS No. 20080535, ERP No. D-BLM-J65529-MT, Indian Creek Mine Expansion, Proposed Mine Expansion would include Quarry Areas, Mine Facilities, Ore Storage Sites, Soil Salvage Stockpiles, Haul Roads, and Overburden Disposal Areas, Issuing Operating Permit #00105 and Plan of Operation #MTM78300, Broadwater County, MT.

Summary: EPA expressed environmental concerns about potential impacts to air quality and nitrate contamination of groundwater from blasting residue. The final EIS should include monitoring and mitigation measures to avoid water quality impacts and an air quality analysis including values for NAAQS and PSD. Rating EC2.

EIS No. 20080543, ERP No. D-NRC-C03017-NY, Generic—License Renewal of Nuclear Plants, Supplement 38 to NUREG-1437, Regarding Indian Point Nuclear Generating Unit Nos. 2 and 3, Westchester County, NY.

Summary: EPA expressed environmental concerns about the proposed project's impacts to aquatic resources and storage of low level waste. We recommended that the final SEIS include new geologic and seismic data concerning recent seismic activity in the area. Rating EC2.

EIS No. 20090004, ERP No. D-NPS-H65028-MO, Jefferson National Expansion Memorial, General Management Plan, Implementation, St. Louis, MO.

Summary: EPA expressed environmental concerns that the competition for the design of the preferred alternative had not begun, and that the implemented design could cause “moderate to major long term to beneficial impacts on transportation”. EPA recommended working with metropolitan and State transportation planners to include design specifications to reduce potential adverse effects. Rating EC2.

Final EISs

EIS No. 20080472, ERP No. F-FRC-D05125-PA, Holtwood Hydroelectric Project (Docket No. P-1881-050) Application for an Amendment License to Increase the Installed Capacity, Susquehanna River, Lancaster and York Counties, PA.

Summary: EPA expressed environmental concerns because the impacts associated with sediment and bedrock excavation activities, and requested additional information, including excavation plans, a comparison of alternatives, and sediment sampling plans.

EIS No. 20080526, ERP No. F-IBR-J39038-CO, Southern Delivery System Project, Water Supply Development, Execution of up to 40-year Contracts for Use of Fryingpan-Arkansas Project Facilities, Special Use Permit, El Paso County, CO.

Summary: EPA found the Final EIS to be largely responsive to EPA's comments on the Draft EIS and Supplemental Information Report, and believes the project is much improved and will result in fewer environmental impacts than what was originally proposed. EPA does not object to the proposed project.

EIS No. 20090012, ERP No. F-NOA-L91032-00, Proposed Acceptable Biological Catch (ABC) and Optimum Yield (OY) Specifications and Management Measures for the 2009-2010 Pacific Coast Groundfish Fishery Management Plan, Implementation, WA, OR and CA.

Summary: While EPA had no objections to the proposed action, EPA did request clarification on monitoring and catch limits.

EIS No. 20090042, ERP No. FR-AFS-J65446-MT, Beaverhead-Deerlodge National Forest Land and Resource Management Plan, Implementation, Beaverhead, Butte-Silver Bow, Deerlodge, Granite, Jefferson, and Madison Counties, MT.

Summary: The preferred alternative addresses EPA concerns and we support the development of a consistent and integrated aquatic strategy to provide for protection for riparian areas, aquatic species, and good water quality.

EIS No. 20090037, ERP No. FS-AFS-F65062-MN, Echo Trail Area Forest Management Project, Updated Information to Amended to Further Address Water Quality and Watershed Health, Superior National Forest, Lacroix Ranger District and Kawishiwi Ranger District, St. Louis and Lake Counties, MN.

Summary: No formal comments were sent to the preparing agency.

Dated: March 31, 2009.
Dawn Roberts,
Management Analyst, Office of Federal Activities.

[FR Doc. E9-7515 Filed 4-2-09; 8:45 am]

BILLING CODE 6560-50-P